DEPARTMENT OF HEALTH AND HUMAN SERVICES

Agency for Toxic Substances and Disease Registry

[Program Announcement 02155]

Linking Chronic Disease and Environmental Data Sources; Notice of the Availability of Funds

A. Purpose

The Agency for Toxic Substances and Disease Registry (ATSDR) announces the availability of fiscal year (FY) 2002 funds for a cooperative agreement program to conduct research on the potential impact of environmental exposures on chronic disease outcomes. This program addresses the “Healthy People 2010” focus area of Environmental Health.

Measurable outcomes of the program will be in alignment with the following performance goals for ATSDR: (1) Ascertain the relationship between exposure to toxic substances and disease and (2) Build and enhance effective partnerships.

B. Authority and Catalog of Federal Domestic Assistance Number

This program is authorized in Sections 104(i)(1)(E), (7),(9) and (15) of the Comprehensive Environmental Response, Compensation, and Liability Act (CERCLA) as amended by the Superfund Amendments and Reauthorization Act (SARA) [42 U.S.C. 9604 (i)(1)(E), (7), (9) and (15)]. The Catalog of Federal Domestic Assistance number is 93.206.

C. Eligible Applicants

Assistance will be provided to official public health agencies of States or their bona fide agents or instrumentalities. This includes the District of Columbia, American Samoa, the Commonwealth of Puerto Rico, the Virgin Islands, the Federated States of Micronesia, Guam, the Northern Mariana Islands, the Republic of the Marshall Islands, the Republic of Palau, and Federally recognized Indian Tribal governments. Also eligible are State organizations, including State universities, State colleges, and State research institutions, who must establish that they meet their respective State legislature's definition of a State entity or political subdivision to be considered an eligible applicant.

Note: Title 2 of the United States Code section 1611 states that an organization described in section 501(c)(4) of the Internal Revenue Code that engages in lobbying activities is not eligible to receive Federal funds constituting an award, grant or loan.

D. Availability of Funds

Approximately $400,000 is available in FY 2002 to fund two to three awards. It is expected that the average award will be $150,000, ranging from $100,000 to $200,000. The award(s) are expected to begin on or about September 1, 2002, and will be made for a 12-month budget period within a project period of up to three years. Funding estimates are subject to change.

Continuation awards within an approved project period will be made on the basis of satisfactory progress as evidenced by required reports and the availability of funds.

Matching funds are not required for this program.

Use of Funds

Funds may be expended for reasonable program purposes, such as personnel, travel, supplies and services. Funds for contractual services may be requested; however, the primary recipient of ATSDR funds, must perform a substantive role in carrying out project activities and not merely serve as a conduit for an award to another party or provide funds to an ineligible party. Equipment may be purchased with these funds, however, the equipment proposed should be appropriate and reasonable for the research activity to be conducted. Equipment may be acquired only when authorized and the application should provide a justification of need to acquire equipment, the description, and the cost of purchase versus lease. At the completion of the project, the equipment must be returned to ATSDR.

Funding Priorities

Priority will be given to the proposed project that demonstrates the existence of both well documented sources of chronic disease data (e.g., population-based cancer registry, birth defects registry, or other source of chronic disease data) and existing, well documented sources of environmental data.

E. Program Requirements

In conducting activities to achieve the purpose of this program, the recipient will be responsible for activities under 1. Recipient Activities, and ATSDR will be responsible for the activities listed under 2. ATSDR Activities.

1 . Recipient Activities

a. Develop a research project which examines the possible relationship between environmental exposures and chronic disease by linking data sources. Provide scientific information concerning environmental exposures and chronic disease, and develop a model for others to address the potential health impact of the exposure(s).

b. Develop a study protocol for approval before project implementation.

c. Identify possible chronic disease and environmental data sources for data linkage and identify variables critical for successful linkage. Assess geographic coverage and generalizability of data identified for linkage. Identify and address any gaps in environmental or chronic disease data and suggest methods to eliminate gaps.

d. Clearly demonstrate a partnership and collaborative effort between public health and environmental agencies, and, when appropriate, a mechanism for stakeholder involvement.

e. Collaborate with partners and other award recipients on these program activities, and meet annually to coordinate planned efforts and review progress.

f. Disseminate results to stakeholders, and publish in written format.

2. ATSDR Activities

a. Provide scientific, epidemiologic, and environmental assistance.

b. Assist with the development of the protocol and evaluation of the data linkage methods.

c. Facilitate external peer review of the protocol and final report(s).

d. Assist with data analysis and interpretation of findings.

e. Provide technical assistance to ensure a sharing of information and methodologies and for the dissemination of information to potential stakeholders.

f. Hold an annual meeting with awardee(s) to discuss issues related to the purpose of the announcement and review progress.

F. Application Content

The Program Announcement title and number must appear in the application. Use the information in the Program Requirements, Other Requirements, and Evaluation Criteria sections to develop the application content. Your application will be evaluated on the criteria listed, so it is important to follow them in laying out your program plan.

The narrative should be no more than 30 pages, double-spaced, printed on one side, with one-inch margins, and unreduced font.

G. Submission and Deadline

Application

Submit the original and two copies of PHS 5161-1 (OMB Number 0920-0428). Forms are available at the following Internet address: www.cdc.gov/od/pgo/forminfo.htm

The application must be received on or before 5:00 p.m. Eastern Time July 30, 2002. Submit the application to:

Technical Information Management—PA 02155, Procurement and Grants Office, Centers for Disease Control and Prevention, 2920 Brandywine Road, Suite 3000, Atlanta, GA 30341.

Deadline: Applications will be considered as meeting the deadline if they are received before 5:00 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet submission requirements.

H. Evaluation Criteria

Applicants are required to provide measures of effectiveness that will demonstrate the accomplishment of the various identified objectives of the cooperative agreement. Measures of effectiveness must relate to the performance goals as stated in section “A. Purpose” of this announcement. Measures must be objective and quantitative and must measure the intended outcome. These measures of effectiveness will be submitted with the application and will be an element of evaluation.

Each application will be evaluated individually against the following criteria by an objective review group appointed by ATSDR:

1. Study Design and Methods (30 percent)

a. Adequacy of the study design and methodology for accomplishing the stated goals and objectives.

b. The degree to which efficient and innovative approaches are proposed to address the problems.

c. The extent to which the applicant's plans and schedule proposed for accomplishing the activities to be carried out in this project are clearly stated, are realistic given the length of the funding period, and can be achieved within the proposed budget.

d. Adequacy of a plan establishing partnerships with state or local environmental agencies and relevant stakeholders.

e. The extent to which the applicant has met the CDC Policy requirements regarding the inclusion of women, ethnic, and racial groups in the proposed research. This includes:

(1) The proposed plan for the inclusion of both sexes and racial and ethnic minority populations for appropriate representation.

(2) The proposed justification when representation is limited or absent.

(3) A statement as to whether the design of the study is adequate to measure differences when warranted.

2. Program Personnel (20 percent)

a. Applicant's technical experience and understanding (e.g., in the areas of chronic disease, environmental health, and database linkage).

b. Qualifications and time allocation of the professional staff to be assigned to this project.

c. Extent to which the management staff and their working partners are clearly described.

3. Goals and Objectives (20 percent)

The extent to which the proposed goals and objectives are clearly stated, measurable, time-phased, and achievable.

4. Understanding of the Problem (10 percent)

Responsiveness to the objectives of the cooperative agreement including:

a. The applicant's understanding of the problems related to environmental exposures and chronic disease outcome(s).

b. Relevance of the proposed program to these and related problems.

5. Dissemination of Results (10 percent)

Adequacy of methods to disseminate the study results to state and local public health officials, state and local environmental health officials, and other stakeholders.

6. Facilities and Resources (10 percent)

The adequacy of the applicant's facilities, equipment, and other resources available for performance of this project.

7. Human Subjects (Not scored)

The extent to which the application adequately addresses the requirements of 45 CFR 46 for the protection of human subjects.

8. Budget Justification (Not Scored)

The budget will be evaluated to the extent that it is reasonable, clearly justified, and consistent with the intended use of funds.

I. Other Requirements

Technical Reporting Requirements

Provide CDC with the original and two copies of:

1. Semi-annual progress report. The progress report will include a data requirement that demonstrates measures of effectiveness.

2. Financial Status Report (FSR) no more than 90 days after the end of the budget period.

3. Final financial status report and performance report, no more than 90 days after the end of the project.

Send all reports to the Grants Management Specialist identified in the “Where to Obtain Additional Information” section of this announcement.

The following additional requirements are applicable to this program:

AR-1 Human Subjects Requirements

AR-2 Requirements of Inclusion of Women and Racial and Ethnic Minorities in Research

AR-7 Executive Order 12372 Review

AR-10 Smoke-Free Workplace Requirements

AR-11 Healthy People 2010

AR-12 Lobbying Restrictions

AR-17 Peer Review and Technical Reviews of Final Reports of Health Studies—ATSDR

AR-18 Cost Recovery—ATSDR

AR-19 Third Party Agreements—ATSDR

AR-22 Research Integrity

J. Where to Obtain Additional Information

A complete copy of the announcement may be downloaded from CDC's home page on the Internet at http://www.cdc.gov Click on “Funding” then “Grants and Cooperative Agreements.”

If you have questions after reviewing the contents of all the documents, business management technical assistance may be obtained from:

Edna Green, Grants Management Specialist, Grants Management Branch, Procurement and Grants Office, Centers for Disease Control and Prevention (CDC), Announcement 02155, 2920 Brandywine Road, Suite 3000, Atlanta, Georgia 30341-4146, Telephone (770) 488-2743, E-mail address: ecg4@cdc.gov.

For program assistance, contact:

Wendy E. Kaye, Ph.D.,Chief, Epidemiology and Surveillance Branch, Division of Health Studies, Agency for Toxic Substances and Disease Registry, 1600 Clifton Road, NE., Mail Stop E-31, Atlanta, Georgia 30333, Telephone: (404) 498-0102, E-mail address: wek1@cdc.gov. Or: Patricia Price-Green, MSPH, Division of Health Studies, Agency for Toxic Substances and Disease Registry, 1600 Clifton Road, NE., Mail Stop E-31, Atlanta, Georgia 30333, Telephone: (404) 498-0558, E-mail address: pap5@cdc.gov.

Dated: June 14, 2002.
Sandra R. Manning, CGFM,
Director, Procurement and Grants Office, Centers for Disease Control and Prevention.

[FR Doc. 02-15548 Filed 6-19-02; 8:45 am]

BILLING CODE 4163-70-P